OFFICE OF PERSONNEL MANAGEMENT

Excepted Service

AGENCY: U.S. Office of Personnel Management (OPM).

ACTION: Notice.

SUMMARY: This notice identifies Schedule A, B, and C appointing authorities applicable to a single agency that were established or revoked from November 1, 2015, to November 30, 2015.

FOR FURTHER INFORMATION CONTACT: Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

11. Department of Homeland Security (Sch. A, 213.3111)

(d) General—

(1) Not to exceed 1,000 positions to perform cyber risk and strategic analysis, incident handling and malware/vulnerability analysis, program management, distributed control systems security, cyber incident response, cyber exercise facilitation and management, cyber vulnerability detection and assessment, network and systems engineering, enterprise architecture, intelligence analysis, investigation, investigative analysis and cyber-related infrastructure interdependency analysis requiring unique qualifications currently not established by OPM. Positions will be at the General Schedule (GS) grade levels 09-15. Appointments may be made under this authority until March 31, 2017.

Schedule B

No Schedule B Authorities to report during November 2015.

Schedule C

The following Schedule C appointing authorities were approved during November 2015.

Agency name | Organization name | Position title | Authorization No. | Effective date
DEPARTMENT OF AGRICULTURE | Office of the Assistant Secretary for Congressional Relations | Legislative Analyst | DA160009 | 11/9/2015
| Office of the Under Secretary for Natural Resources and Environment | Confidential Assistant | DA160010 | 11/9/2015
| Office of Communications | Scheduler | DA160012 | 11/24/2015
| Office of the Deputy Secretary | Special Assistant | DA160013 | 11/24/2015
| Farm Service Agency | State Executive Director—Oklahoma | DA160015 | 11/24/2015
DEPARTMENT OF COMMERCE | Office of the Under Secretary | Senior Advisor (2) | DC160017 DC160021 | 11/5/2015 11/13/2015
| Office of Policy and Strategic Planning | Special Assistant | DC160020 | 11/10/2015
| Office of Executive Secretariat | Special Advisor | DC160024 | 11/18/2015
| Office of Scheduling and Advance | Special Assistant | DC160027 | 11/18/2015
|  | Scheduler | DC160029 | 11/23/2015
| Office of Assistant Secretary for Enforcement and Compliance | Senior Advisor | DC160030 | 11/23/2015
| Office of the Director | Senior Advisor for Minority-Owned Business Enterprise Policy | DC160031 | 11/25/2015
|  | Associate Director of Legislative, Education and Intergovernmental Affairs | DC160033 | 11/25/2015
COMMISSION ON CIVIL RIGHTS | Office of Commissioners | Special Assistant | CC160001 | 11/18/2015
CONSUMER PRODUCT SAFETY COMMISSION | Office of Commissioners | Special Assistant (Legal) | PS160002 | 11/12/2015
DEPARTMENT OF DEFENSE | Office of the Secretary | Deputy White House Liaison | DD160016 | 11/13/2015
| Office of the Under Secretary of Defense (Comptroller) | Special Assistant (Budget and Appropriations Affairs) | DD160015 | 11/16/2015
DEPARTMENT OF EDUCATION | Office of the Under Secretary | Policy Advisor, White House Initiative on American Indian and Alaska Native | DB160004 | 11/12/2015
|  | Executive Director, White House Initiative on Asian Americans and Pacific Islanders | DB160005 | 11/13/2015
|  | Director of Strategic Communications | DB160006 | 11/23/2015
| Office of the Secretary | Deputy Director, Strategic Partnership | DB160008 | 11/23/2015
|  | Chief of Staff, Strategic Partnerships | DB160011 | 11/24/2015
| Office of Legislation and Congressional Affairs | Special Assistant | DB160009 | 11/24/2015
| Office of Career Technical and Adult Education | Director of Policy | DB160012 | 11/24/2015
|  | Director of Strategic Initiatives | DB160013 | 11/24/2015
| Office of Planning, Evaluation and Policy Development | Senior Policy Advisor | DB160010 | 11/27/2015
DEPARTMENT OF ENERGY | Office of Assistant Secretary for International Affairs | Chief of Staff | DE160004 | 11/4/2015
| Office of Public Affairs | Press Assistant | DE160012 | 11/4/2015
| Office of Energy Policy and Systems Analysis | Special Assistant | DE160013 | 11/4/2015
| Office of Scheduling and Advance | Special Assistant and Scheduler | DE160014 | 11/4/2015
|  | Senior Advance Lead | DE160019 | 11/4/2015
|  | Director of Operations | DE160025 | 11/18/2015
|  | Special Assistant | DE160035 | 11/24/2015
|  | Deputy Scheduler | DE160024 | 11/25/2015
| Office of Assistant Secretary for Congressional and Intergovernmental Affairs | Special Assistant | DE160007 | 11/6/2015
| Office of the Secretary | Special Advisor | DE160015 | 11/6/2015
| Office of Assistant Secretary for Fossil Energy | Special Assistant | DE160023 | 11/12/2015
| Office of Assistant Secretary for Energy Efficiency and Renewable Energy | Special Assistant | DE160028 | 11/12/2015
| Office of Under Secretary for Science | Special Advisor | DE160029 | 11/13/2015
| Loan Programs Office | Special Advisor | DE160030 | 11/13/2015
|  | Senior Advisor | DE160031 | 11/23/2015
ENVIRONMENTAL PROTECTION AGENCY | Scheduling Staff | Deputy Director of Scheduling | EP160009 | 11/18/2015
| Advance Staff | Deputy Director for Advance | EP160008 | 11/20/2015
EXPORT-IMPORT BANK | Office of the Chairman | Project Manager and Executive Assistant | EB160001 | 11/6/2015
DEPARTMENT OF HEALTH AND HUMAN SERVICES | Office of the Secretary | Special Assistant (2) | DH160015 DH160019 | 11/6/2015 11/18/2015
| Centers for Medicare and Medicaid Services | Senior Advisor | DH160016 | 11/9/2015
| Office of Commissioner, Administrator for Children, Youth and Families | Senior Policy Advisor | DH160018 | 11/12/2015
| Office of the Assistant Secretary for Children and Families | Special Assistant | DH160022 | 11/19/2015
DEPARTMENT OF HOMELAND SECURITY | Office of the Assistant Secretary for Policy | Special Assistant (3) | DM160016 DM160018 DM160019 | 11/4/2015 11/4/2015 11/4/2015
|  | Deputy Director for Asia-Pacific | DM160030 | 11/16/2015
| Office of the Chief of Staff | Travel Operations Coordinator Advance Officer | DM160028 DM160033 | 11/12/2015 11/16/2015
| United States Immigration and Customs Enforcement | Deputy Chief of Staff | DM160029 | 11/20/2015
DEPARTMENT OF THE INTERIOR | Office of the Assistant Secretary, Fish and Wildlife and Parks | Chief of Staff | DI160010 | 11/2/2015
| Secretary's Immediate Office | Deputy Director Deputy Director—Advance | DI160003 DI160016 | 11/4/2015 11/24/2015
| Bureau of Safety and Environmental Enforcement | Advisor | DI160009 | 11/16/2015
| Office of the Deputy Secretary | Advisor | DI160014 | 11/24/2015
DEPARTMENT OF JUSTICE | Community Relations Service | Senior Counsel | DJ160018 | 11/5/2015
| Office of the Attorney General | Special Assistant | DJ160019 | 11/13/2015
| Office of Public Affairs | Media Affairs Coordinator | DJ160011 | 11/16/2015
| Community Relations Service | Senior Advisor | DJ160022 | 11/17/2015
DEPARTMENT OF LABOR | Office of the Secretary | Special Advisor | DL160010 | 11/5/2015
| Office of Public Affairs | Digital Content Manager | DL160013 | 11/16/2015
| Employment and Training Administration | Senior Policy Advisor | DL160017 | 11/30/2015
NATIONAL AERONAUTICS AND SPACE ADMINISTRATION | Office of Communications | Senior Advisor/Press Secretary | NN160008 | 11/12/2015
NATIONAL ENDOWMENT FOR THE ARTS | Office of the Chairman | Confidential Assistant | NA160004 | 11/9/2015
OFFICE OF MANAGEMENT AND BUDGET | Health Division | Confidential Assistant | BO160001 | 11/4/2015
| Staff Offices | Press Secretary | BO160005 | 11/19/2015
OFFICE OF PERSONNEL MANAGEMENT | Office of Congressional, Legislative, and Intergovernmental Affairs | Senior Congressional Relations Officer | PM160005 | 11/4/2015
DEPARTMENT OF STATE | Office of the Chief of Protocol | Protocol Officer (Visits) | DS160011 | 11/13/2015
| Office of the Lead Coordinator for Iran Nuclear Implementation | Foreign Affairs Officer | DS160009 | 11/17/2015
|  | Deputy Lead Coordinator | DS160010 | 11/17/2015
| Office of the Under Secretary for Management | Staff Assistant | DS160008 | 11/20/2015
DEPARTMENT OF TRANSPORTATION | Office of Assistant Secretary for Transportation Policy | Policy Advisor and Director of Strategic Initiatives | DT160004 | 11/4/2015
| Immediate Office of the Administrator | Associate Administrator for External Affairs and Senior Advisor | DT160006 | 11/4/2015
|  | Special Assistant | DT160007 | 11/4/2015
|  | Advisor for Governmental Affairs | DT160012 | 11/25/2015
| Office of the Secretary | Director of Scheduling | DT160008 | 11/10/2015
DEPARTMENT OF THE TREASURY | Office of the Assistant Secretary (Public Affairs) | Senior Speechwriter | DY160012 | 11/13/2015
|  | Special Assistant | DY160014 | 11/17/2015
DEPARTMENT OF VETERANS AFFAIRS | Office of the Assistant Secretary for Congressional and Legislative Affairs | Director Oversight | DV160007 | 11/13/2015

The following Schedule C appointing authorities were revoked during November 2015.

Agency name | Organization name | Position title | Authorization No. | Vacate date
DEPARTMENT OF AGRICULTURE | Office of Communications | Scheduler | DA140111 | 11/28/2015
DEPARTMENT OF COMMERCE | Office of Policy and Strategic Planning | Confidential Assistant | DC140138 | 11/20/2015
| Office of Scheduling and Advance | Scheduler Special Assistant | DC150157 DC150165 | 11/23/2015 11/28/2015
| Office of Assistant Secretary for Industry and Analysis | Director of the Advisory Committee in Industry and Analysis | DC150058 | 11/28/2015
| Office of Executive Secretariat | Special Assistant | DC140126 | 11/28/2015
CONSUMER PRODUCT SAFETY COMMISSION | Office of Commissioners | Special Assistant (Legal) | PS140015 | 11/28/2015
| Office of Executive Director | Supervisory Public Affairs Specialist | PS090009 | 11/30/2015
OFFICE OF THE SECRETARY OF DEFENSE | Office of the Secretary | Deputy White House Liaison | DD150118 | 11/14/2015
|  | Protocol Officer | DD130068 | 11/14/2015
DEPARTMENT OF EDUCATION | Office of the Under Secretary | Executive Director of the White House Initiative on Asian Americans and Pacific Islanders | DB100026 | 11/07/2015
|  | Confidential Assistant | DB140004 | 11/28/2015
| Office of Career Technical and Adult Education | Special Assistant (2) | DB140089 DB150042 | 11/28/2015 11/28/2015
| Office of Innovation and Improvement | Special Assistant | DB150063 | 11/28/2015
| Office of Legislation and Congressional Affairs | Special Assistant | DB140026 | 11/28/2015
DEPARTMENT OF ENERGY | Office of Assistant Secretary for Congressional and Intergovernmental Affairs | Special Advisor | DE140096 | 11/14/2015
| Office of Assistant Secretary for International Affairs | Senior Advisor | DE150080 | 11/14/2015
| Office of Management | Lead Advance Representative | DE110120 | 11/14/2015
|  | Special Assistant (2) | DE140039 DE150094 | 11/14/2015 11/28/2015
|  | Deputy Director, Office of Scheduling and Advance | DE140101 | 11/28/2015
| Office of Under Secretary for Science | Special Assistant | DE140006 | 11/14/2015
| Office of Assistant Secretary for Energy Efficiency and Renewable Energy | Special Advisor for Technology to Market | DE150017 | 11/20/2015
| Office of the Secretary | White House Liaison | DE140045 | 11/28/2015
EXPORT-IMPORT BANK | Office of the Chairman | Special Assistant | EB140010 | 11/30/2015
DEPARTMENT OF HEALTH AND HUMAN SERVICES | Office of Intergovernmental and External Affairs | Special Assistant (2) | DH130069 DH120117 | 11/13/2015 11/30/2015
| Office of the Assistant Secretary for Public Affairs | Online Communications and Outreach Advisor | DH140071 | 11/14/2015
| Office of the Secretary | Confidential Assistant | DH150023 | 11/22/2015
DEPARTMENT OF HOMELAND SECURITY | Federal Emergency Management Agency | Special Assistant | DM150049 | 11/09/2015
| Office of the Secretary | Special Assistant | DM150226 | 11/13/2015
| Office of the Chief of Staff | Advance Officer | DM150017 | 11/28/2015
|  | Travel Operations Coordinator | DM140223 | 11/28/2015
| Office of the Executive Secretariat | Secretary Briefing Book Coordinator | DM140133 | 11/28/2015
| United States Customs and Border Protection | Special Assistant | DM140205 | 11/28/2015
DEPARTMENT OF HOUSING AND URBAN DEVELOPMENT | Office of the Secretary | Deputy Chief of Staff | DU140037 | 11/17/2015
DEPARTMENT OF THE INTERIOR | Secretary's Immediate Office | Deputy Director | DI120019 | 11/01/2015
DEPARTMENT OF JUSTICE | Office of the Deputy Attorney General | Confidential Assistant to the Deputy Attorney General | DJ100159 | 11/14/2015
| Office of Public Affairs | Press Assistant | DJ140082 | 11/15/2015
DEPARTMENT OF LABOR | Office of the Secretary | Special Assistant | DL140093 | 11/04/2015
| Office of Public Affairs | Special Assistant | DL140076 | 11/18/2015
OFFICE OF MANAGEMENT AND BUDGET | Health Division | Confidential Assistant | BO140025 | 11/11/2015
SMALL BUSINESS ADMINISTRATION | Office of Government Contracting and Business Development | Senior Advisor | SB140008 | 11/28/2015
DEPARTMENT OF STATE | Office of the Counselor | Special Assistant | DS140127 | 11/28/2015
DEPARTMENT OF TRANSPORTATION | Office of the Administrator | Associate Administrator for Communications and Legislative Affairs | DT140058 | 11/14/2015
|  | Director for Governmental Affairs | DT140046 | 11/28/2015
| Office of the Assistant Secretary for Transportation Policy | Deputy Director for Public Engagement | DT130040 | 11/14/2015

Authority: 5 U.S.C. 3301 and 3302; E.O. 10577, 3 CFR, 1954-1958 Comp., p. 218.

U.S. Office of Personnel Management.
Beth F. Cobert,
Acting Director.

[FR Doc. 2016-02609 Filed 2-8-16; 8:45 am]

BILLING CODE 6325-39-P